DEPARTMENT OF COMMERCE

National Oceanic and Atmospheric Administration

50 CFR Part 679

[I.D. 030901A]

Fisheries of the Exclusive Economic Zone Off Alaska; Sablefish Managed Under the IFQ Program

AGENCY: National Marine Fisheries Service (NMFS), National Oceanic and Atmospheric Administration (NOAA), Commerce.

ACTION: Announcement of fishing season dates.

SUMMARY: NMFS announces the opening of directed fishing for sablefish with fixed gear managed under the Individual Fishing Quota (IFQ) program. The season will open 1200 hrs, Alaska local time (A.l.t.), March 15, 2001, and will close 1200 hrs, A.l.t., November 15, 2001. This period is the same as the IFQ season for Pacific halibut announced by the International Pacific Halibut Commission (IPHC). The IFQ halibut season is announced by publication in the Federal Register.

DATES: Effective 1200 hrs, A.l.t., March 15, 2001, until 1200 hrs, A.l.t., November 15, 2001.

FOR FURTHER INFORMATION CONTACT: James Hale, 907-586-7228.

SUPPLEMENTARY INFORMATION: Beginning in 1995, fishing for Pacific halibut (Hippoglossus stenolepis) and sablefish (Anoplopoma fimbria) with fixed gear in the IFQ regulatory areas defined in § 679.2 has been managed under the IFQ program. The IFQ program is a management measure designed to promote the conservation and management of these fisheries and to further the objectives of the Magnuson-Stevens Fishery Conservation and Management Act and the Northern Pacific Halibut Act. Persons holding quota share receive an annual allocation of IFQ. Persons receiving an annual allocation of IFQ are authorized to harvest IFQ species within specified limitations. Further information on the implementation of the IFQ program, and the rationale supporting it, are contained in the preamble to the final rule implementing the IFQ program published in the Federal Register, November 9, 1993 (58 FR 59375) and subsequent amendments.

This announcement is consistent with § 679.23(g)(1), which requires that the directed fishing season for sablefish managed under the IFQ program be specified by the Administrator, Alaska Region, and announced by publication in the Federal Register. This method of season announcement was selected to facilitate coordination between the sablefish season, chosen by the Administrator, Alaska Region, and the halibut season, chosen by the IPHC. The directed fishing season for sablefish with fixed gear managed under the IFQ program will open 1200 hrs, A.l.t., March 15, 2001, and will close 1200 hrs, A.l.t., November 15, 2001. This period runs concurrently with the IFQ season for Pacific halibut announced by the IPHC. The IFQ halibut season is announced by publication in the Federal Register.

Classification

This action is taken under § 679.23(g)(1) and is exempt from review under E.O. 12866.

Authority: 16 U.S.C. 773 et seq. and 1801 et seq.

Dated: March 12, 2001.
Bruce C. Morehead,
Acting Director, Office of Sustainable Fisheries, National Marine Fisheries Service.

[FR Doc. 01-6598 Filed 3-15-01; 8:45 am]

BILLING CODE 3510-22-S